DEPARTMENT OF ENERGY

Federal Energy Regulatory Commission

[Docket No. RP14-732-000]

Pivotal LNG, Inc.; Notice of Petition for Declaratory Order

Take notice that on April 11, 2014, Pivotal LNG, Inc. (Pivotal LNG), pursuant to section 207(a)(2) of the Federal Energy Regulatory Commission's (Commission) Rules of Practice and Procedure, 18 CFR 385.207 (2013), filed a Petition for Declaratory Order seeking a declaratory ruling from the Commission that certain existing liquefied natural gas (“LNG”) production facilities (“LNG production Facilities”), not otherwise subject to the Commission's jurisdiction under Section 3 of the Natural Gas Act (“NGA”), 15 U.S.C. 717b (2012), would not be deemed “LNG terminal[s],” as that term is defined in Section 2(11) of the NGA, id. 717a(11), by virtue of producing LNG that subsequently may be transported in interstate commerce by waterborne vessel. Also, the Petition seeks a finding that certain proposed LNG transactions wherein Pivotal LNG sells LNG that is: (i) Sourced from one of the LNG Production Facilities or from a non-affiliated LNG supplier; (ii) transported by Pivotal LNG, an affiliate, or a third party in intrastate or interstate commerce within the contiguous United States by means including (but not limited to) truck, rail, or waterborne vessel, but excluding interstate pipeline; and (iii) subsequently transported by a third party in interstate commerce, by waterborne vessel, for resale and ultimate consumption in a non-contiguous U.S. state or territory as vehicular fuel, other end-use fuel, or feedstock do not constitute jurisdictional sales or transportation of natural gas in interstate commerce subject to the Commission's jurisdiction under NGA Sections l(b) and 7, id. 717(b), 717f.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 21, 2014.

Dated: April 14, 2014.
Kimberly D. Bose,
Secretary.

[FR Doc. 2014-09950 Filed 4-30-14; 8:45 am]

BILLING CODE 6717-01-P